SUSQUEHANNA RIVER BASIN COMMISSION

Commission Meeting

AGENCY: Susquehanna River Basin Commission.

ACTION: Notice.

SUMMARY: The Susquehanna River Basin Commission will hold its regular business meeting on September 10, 2015, in Binghamton, New York. Details concerning the matters to be addressed at the business meeting are contained in the Supplementary Information section of this notice.

DATES: September 10, 2015, at 9:00 a.m.

ADDRESSES: DoubleTree by Hilton Binghamton, Grand Riverside Room, 225 Water Street, Binghamton, NY 13901.

FOR FURTHER INFORMATION CONTACT: Jason E. Oyler, General Counsel, telephone: (717) 238-0423, ext. 1312; fax: (717) 238-2436.

SUPPLEMENTARY INFORMATION: The business meeting will include actions or presentations on the following items: (1) Informational presentation of interest to the Upper Susquehanna Subbasin area; (2) resolution to correct Exhibit A attached to Resolution No. 2013-11; (3) release of proposed rulemaking for public comment; (4) amendment of the Comprehensive Plan for the Water Resources of the Susquehanna River Basin; (5) ratification/approval of grants; (6) regulatory compliance matter for Downs Racing L.P.; (7) Panda Power Funds request for transfer of ownership of Hummel Station LLC (Docket Nos. 20081222 and 20081222-2); and (8) Regulatory Program projects. The business meeting may also include requests to extend emergency certificates for Aqua Pennsylvania, Inc. and Furman Foods, Inc.

Projects, amendments to the Comprehensive Plan, and request for conditional transfer listed for Commission action are those that were the subject of a public hearing conducted by the Commission on August 6, 2015, and identified in the notice for such hearing, which was published in 80 FR 39190, July 8, 2015.

Opportunity To Appear and Comment

Interested parties are invited to attend the business meeting and encouraged to review the Commission's Public Meeting Rules of Conduct, which are posted on the Commission's Web site, www.srbc.net. As identified in the public hearing notices referenced above, written comments on the Regulatory Program projects, the amendments to the Comprehensive Plan, and request for conditional transfer that were the subject of a public hearing, and are listed for action at the business meeting, are subject to a comment deadline of August 17, 2015. Written comments pertaining to any other matters listed for action at the business meeting may be mailed to the Susquehanna River Basin Commission, 4423 North Front Street, Harrisburg, Pennsylvania 17110-1788, or submitted electronically through http://www.srbc.net/pubinfo/publicparticipation.htm. Any such comments mailed or electronically submitted must be received by the Commission on or before September 4, 2015, to be considered.

Authority: Pub. L. 91-575, 84 Stat. 1509 et seq., 18 CFR parts 806, 807, and 808.

Dated: August 6, 2015.
Stephanie L. Richardson,
Secretary to the Commission.

[FR Doc. 2015-19718 Filed 8-11-15; 8:45 am]

BILLING CODE 7040-01-P